ENVIRONMENTAL PROTECTION AGENCY

40 CFR Part 52

[FRL-6899-4]

Supplemental Information To Support Proposed Approvals of One-Hour Ozone Attainment Demonstrations for Serious Ozone Nonattainment Areas; Correction

AGENCY: Environmental Protection Agency (EPA).

ACTION: Notice of availability and extension of comment period; correction.

SUMMARY: On November 2, 2000 (65 FR 65818), EPA published a notice of availability and reopening of comment period to provide the public with the opportunity to comment on a reasonably available control measures (RACM) analysis that EPA performed. In that document EPA stated that the comment period would be extended 15 additional days, but in the Dates Section there was a typographical error that stated that the comment period would close on November 15, 2001. The EPA's original intent was to extend the comment period 15 additional days, therefore the comment period is only being extended to November 15, 2000.

Dated: November 3, 2000.
Henry C. Thomas,
Acting Director, Office of Air Quality Planning and Standards.

DATES: The comment period closes on November 15, 2000.

FOR FURTHER INFORMATION CONTACT: John Silvasi at (919) 541-5666.

[FR Doc. 00-28810 Filed 11-8-00; 8:45 am]

BILLING CODE 6560-50-P